DEPARTMENT OF ENERGY

Federal Energy Regulatory Commission

Combined Notice of Filings

Take notice that the Commission has received the following Natural Gas Pipeline Rate and Refund Report filings:

Filings Instituting Proceedings

Docket Numbers: RP14-722-000.

Applicants: Cheyenne Plains Gas Pipeline Company, L.

Description: Non-Conforming Negotiated Rate Agreements Update (Foundation) to be effective 5/8/2014.

Filed Date: 4/7/14.

Accession Number: 20140407-5333.

Comments Due: 5 p.m. ET 4/21/14.

Docket Numbers: RP14-723-000.

Applicants: Enable Gas Transmission, LLC.

Description: Negotiated Rate Filing—April 2014—Tenaska 9840 Att A to be effective 4/7/2014.

Filed Date: 4/7/14.

Accession Number: 20140407-5346.

Comments Due: 5 p.m. ET 4/21/14.

Docket Numbers: RP14-724-000.

Applicants: Northern Border Pipeline Company.

Description: Northern Border Pipeline Company Operational Purchases and Sales of Gas Report.

Filed Date: 4/8/14.

Accession Number: 20140408-5079.

Comments Due: 5 p.m. ET 4/21/14.

Docket Numbers: RP14-725-000.

Applicants: Bison Pipeline LLC.

Description: Bison Pipeline LLC Operational Purchases and Sales of Gas Report.

Filed Date: 4/8/14.

Accession Number: 20140408-5080.

Comments Due: 5 p.m. ET 4/21/14.

Docket Numbers: RP14-726-000.

Applicants: El Paso Natural Gas Company, L.L.C.

Description: Request for Waiver and Extensions of El Paso Natural Gas Company, L.L.C.

Filed Date: 4/8/14.

Accession Number: 20140408-5145.

Comments Due: 5 p.m. ET 4/21/14.

Docket Numbers: RP14-727-000.

Applicants: Southwest Gas Storage Company.

Description: Remove Messenger Agreement to be effective 5/10/2014.

Filed Date: 4/9/14.

Accession Number: 20140409-5035.

Comments Due: 5 p.m. ET 4/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2014.
Nathaniel J. Davis, Sr.,
Deputy Secretary.

[FR Doc. 2014-08868 Filed 4-17-14; 8:45 am]

BILLING CODE 6717-01-P